DEPARTMENT OF ENERGY

Federal Energy Regulatory Commission

[Docket No. CP13-499-000; Docket No. CP13-502-000]

Constitution Pipeline Company, LLC; Iroquois Gas Transmission System, L.P.; Notice Establishing Comment Due Date

On November 13, 2014, Stop the Pipeline (STP) filed a motion (motion) requesting that the Commission compel the Constitution Pipeline Company, LLC (Constitution) to provide STP with the precedent agreements entered into by and between Constitution and specific shippers for firm transportation service on certain proposed projects. Constitution filed the precedent agreements and requested privileged treatment for these documents pursuant to section 388.112(b) of the Commission's regulations. On November 24, 2014, STP withdrew its motion, stating that it received a copy of the precedent agreements from Constitution on November 21, 2014.

Notice is hereby given that STP may file additional comments in response to Constitution's filed precedent agreements until and including January 2, 2015.¹

¹ On December 2, 2014, the Commission issued an order in these proceedings authorizing the proposed projects, subject to conditions. 149 FERC ¶ 61,199 (2014). Requests for rehearing are due January 2, 2015. See 18 CFR 385.713 and 385.2007(a)(2) (2014).

Dated: December 8, 2014.
Kimberly D. Bose,
Secretary.

[FR Doc. 2014-29703 Filed 12-18-14; 8:45 am]

BILLING CODE 6717-01-P